DEPARTMENT OF HEALTH AND HUMAN SERVICES

Administration for Children and Families

[Assistance Listing Number: 93.576]

Announcement of the Intent To Award a Sole-Source Cooperative Agreement to the Welcoming Initiative for Newcomers in San Diego, CA

AGENCY: Refugee Program Bureau, Office of Refugee Resettlement (ORR), Administration for Children and Families (ACF), Department of Health and Human Services (HHS).

ACTION: Notice of Issuance of a Single-Source Cooperative Agreement.

SUMMARY: ACF, Office of Refugee Resettlement (ORR) announces the intent to award a single-source cooperative agreement in the amount of up to $1,000,000 to the Welcoming Initiative for Newcomers (WIN) in San Diego, CA to conduct a baseline assessment of state readiness and capacity to implement a state-centered refugee resettlement framework under the Program of Initial Resettlement. The purpose is to empower states with the tools and insights needed to take control of their refugee resettlement recommendations. This nationwide baseline assessment will strengthen each state's capacity to implement a state-centered refugee resettlement framework and will include a nationwide baseline assessment of state readiness and capacity, including a nationwide readiness map, state capacity catalog, and implementation roadmap. The baseline will also include state-specific labor force shortages and corresponding industries.

DATES: The proposed period of performance is January 5, 2026 to September 29, 2026.

FOR FURTHER INFORMATION CONTACT: Miro Marinovich, Office of Refugee Resettlement, Administration for Children and Families, 330 C Street SW, Washington, DC 20201. Telephone: (202) 729-3638; Email: miro.marinovich@acf.hhs.gov.

SUPPLEMENTARY INFORMATION: The Office of Refugee Resettlement (ORR) intends to conduct a nationwide State Capacity and Readiness Assessment to support implementation of the Program of Initial Resettlement (PIR). The purpose of this assessment is to develop the analytical tools, data structures, and partnerships necessary for states to assess and communicate their capacity and infrastructure related to refugee placement. The assessment will include development of standardized tools, structured interviews with state officials, focus groups to gather additional perspectives, and state-by-state analyses addressing housing availability, labor market conditions, education systems, and staffing. The resulting readiness map and roadmap will enable states to provide recommendations with greater precision and timeliness and will support ORR in considering those recommendations consistent with the requirements of section 412(a)(2) of the Immigration and Nationality Act (8 U.S.C. 1522(a)(2)).

ORR proposes to issue a single-source cooperative agreement to the Welcoming Initiative for Newcomers (WIN) to complete this work. WIN possesses long-standing partnerships with State Refugee Coordinators, resettlement agencies, and community organizations across all 50 states and has expertise in labor market analysis, credential transferability, economic inclusion, and large-scale assessment design. These qualifications position WIN to rapidly engage state partners and produce a comprehensive readiness assessment within the required timeframes.

This initiative is intended to support state and local preparedness in advance of PIR implementation by strengthening data readiness, capacity analysis, and systems alignment. The assessment will help ensure that state recommendations reflect local conditions and that placement decisions account for housing, workforce, and social service capacity. The activity supports evidence-based decision making, intergovernmental coordination, and effective administration of refugee resettlement activities.

Statutory Authority: Under section 8 U.S.C. 1522(b)(1) of the Refugee Act, ORR is authorized to make grants to and contracts with public or private nonprofit agencies for the initial resettlement of refugees in the United States. This action further advances the intent of 8 U.S.C. 1522(a)(2) by creating mechanisms through which ORR can, to the maximum extent possible, incorporate state recommendations into refugee placement and capacity planning decisions.

Elizabeth Leo,
Policy Branch Chief, Office of Grants Policy, Office of Administration.

[FR Doc. 2025-23961 Filed 12-29-25; 8:45 am]

BILLING CODE 4184-89-P